DEPARTMENT OF COMMERCE

International Trade Administration

[A-588-879, A-469-822]

Methionine From Japan and Spain: Antidumping Duty Orders

AGENCY: Enforcement and Compliance, International Trade Administration, Department of Commerce.

SUMMARY: Based on affirmative final determinations by the Department of Commerce (Commerce) and the International Trade Commission (ITC), Commerce is issuing antidumping duty orders on methionine from Japan and Spain.

DATES: Applicable September 14, 2021.

FOR FURTHER INFORMATION CONTACT: Robert Scully at (202) 482-0572 (Japan) or Elizabeth Bremer at (202) 482-4987 (Spain); AD/CVD Operations, Enforcement and Compliance, International Trade Administration, U.S. Department of Commerce, 1401 Constitution Avenue NW, Washington, DC 20230.

SUPPLEMENTARY INFORMATION:

Background

In accordance with sections 735(d) and 777(i) of the Tariff Act of 1930, as amended (the Act), on July 23, 2021, Commerce published its affirmative final determinations in the less-than-fair-value (LTFV) investigations of methionine from Japan and Spain.¹ On September 7, 2021, the ITC notified Commerce of its final determinations, pursuant to section 735(d) of the Act, that an industry in the United States is materially injured within the meaning of section 735(b)(1)(A)(i) of the Act by reason of LTFV imports of methionine from Japan and Spain, and its negative critical circumstances finding with respect to dumped imports of methionine from Spain.²

¹ See Methionine from Japan: Final Affirmative Determination of Sales at Less Than Fair Value and Final Negative Determination of Critical Circumstances, 86 FR 38983 (July 23, 2021) and accompanying Issues and Decision Memorandum; see also Methionine from Spain: Final Affirmative Determination of Sales at Less Than Fair Value and Final Affirmative Determination of Critical Circumstances, 86 FR 38985 (July 23, 2021), and accompanying Issues and Decision Memorandum (collectively, Final Determinations).

² See ITC Notification Letter, Investigation Nos. 731-TA-1535-1536 (Final) dated September 7, 2021 (ITC Notification Letter).

Scope of the Orders

The products covered by these orders are methionine from Japan and Spain. For a complete description of the scope of these orders, see the appendix to this notice.

Antidumping Duty Orders

On September 7, 2021, in accordance with section 735(d) of the Act, the ITC notified Commerce of its final determinations in these investigations, in which it found that an industry in the United States is materially injured by reason of imports of methionine from Japan and Spain.³ Therefore, in accordance with section 735(c)(2) of the Act, Commerce is issuing these antidumping duty orders. Because the ITC determined that imports of methionine from Japan and Spain are materially injuring a U.S. industry, unliquidated entries of such merchandise from Japan and Spain, entered or withdrawn from warehouse for consumption, are subject to the assessment of antidumping duties.

³ Id.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of methionine from Japan and Spain. With the exception of entries occurring after the expiration of the provisional measures period and before publication of the ITC's final affirmative injury determinations, as further described below, antidumping duties will be assessed on unliquidated entries of methionine from Japan and Spain entered, or withdrawn from warehouse, for consumption, on or after March 4, 2021, the date of publication of the Preliminary Determinations.⁴

⁴ See Methionine from Japan: Preliminary Affirmative Determination of Sales at Less Than Fair Value, Preliminary Affirmative Determination of Critical Circumstances and Postponement of Final Determination and Extension of Provisional Measures, 86 FR 12625 (March 4, 2021), and accompanying Preliminary Decision Memorandum; see also Methionine from Spain: Preliminary Affirmative Determination of Sales at Less Than Fair Value, Preliminary Negative Determination of Critical Circumstances, Postponement of Final Determination, and Extension of Provisional Measures, 86 FR 12614 (March 4, 2021) (Spain Preliminary Determination), and accompanying Preliminary Decision Memorandum (collectively, Preliminary Determinations).

Continuation of Suspension of Liquidation

Except as noted in the “Provisional Measures” section of this notice, in accordance with section 735(c)(1)(B) of the Act, Commerce intends to instruct CBP to continue to suspend liquidation on all relevant entries of methionine from Japan and Spain. These instructions suspending liquidation will remain in effect until further notice.

Commerce will also instruct CBP to require cash deposits equal to the estimated weighted-average dumping margins indicated in the tables below. Accordingly, effective on the date of publication in the Federal Register of the notice of the ITC's final affirmative injury determinations, CBP will require, at the same time as importers would normally deposit estimated duties on subject merchandise, a cash deposit equal to the rates listed below. The relevant all-others rate applies to all producers or exporters not specifically listed.

Critical Circumstances

With regard to the ITC's negative critical circumstances determination on imports of methionine from Spain, we will instruct CBP to lift suspension and to refund any cash deposits made to secure the payment of estimated antidumping duties with respect to entries of the subject merchandise entered, or withdrawn from warehouse, for consumption on or after December 4, 2020 (i.e., 90 days prior to the date of the publication of the Spain Preliminary Determination), but before March 4, 2021 (i.e., the date of publication of the Spain Preliminary Determination).

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of methionine from Japan and Spain, Commerce extended the four-month period to six months in each of these investigations. Commerce published the preliminary determinations in these investigations on March 4, 2021.⁵

⁵ See Preliminary Determinations.

The extended provisional measures period, beginning on the date of publication of the Preliminary Determinations, ended on August 31, 2021. Therefore, in accordance with section 733(d) of the Act, Commerce intends to instruct CBP to terminate the suspension of liquidation and to liquidate, without regard to antidumping duties, unliquidated entries of methionine from Japan and Spain entered, or withdrawn from warehouse, for consumption after August 31, 2021, the final day on which the provisional measures were in effect, until and through the day preceding the date of publication of the ITC's final affirmative injury determinations in the Federal Register. Suspension of liquidation and the collection of cash deposits will resume on the date of publication of the ITC's final determinations in the Federal Register.

Estimated Weighted-Average Dumping Margins

The estimated weighted-average dumping margins are as follows:

Japan
Exporter/producer | Estimated weighted-average dumping margin (percent)
Sumitomo Chemical Company, Ltd | 76.50
All Others | 76.50

Spain
Exporter/producer | Estimated weighted-average dumping margin (percent)
Adisseo España S.A | 37.53
All Others | 37.53

Notification to Interested Parties

This notice constitutes the antidumping duty orders with respect to methionine from Japan and Spain pursuant to section 736(a) of the Act. Interested parties can find a list of antidumping duty orders currently in effect at http://enforcement.trade.gov/stats/iastats1.html.

These antidumping duty orders are published in accordance with section 736(a) of the Act and 19 CFR 351.211(b).

Dated: September 7, 2021.
Christian Marsh,
Acting Assistant Secretary for Enforcement and Compliance.

Appendix—Scope of the Orders

The merchandise covered by these orders is methionine and dl-Hydroxy analogue of dl-methionine, also known as 2-Hydroxy 4-(Methylthio) Butanoic acid (HMTBa), regardless of purity, particle size, grade, or physical form. Methionine has the chemical formula C5H11NO2S, liquid HMTBa has the chemical formula C5H10O3S, and dry HMTBa has the chemical formula (C5H9O3S)2Ca.

Subject merchandise also includes methionine processed in a third country including, but not limited to, refining, converting from liquid to dry or dry to liquid form, or any other processing that would not otherwise remove the merchandise from the scope of these orders if performed in the country of manufacture of the in-scope methionine or dl-Hydroxy analogue of dl-methionine.

The scope also includes methionine that is commingled (i.e., mixed or combined) with methionine from sources not subject to these orders. Only the subject component of such commingled products is covered by the scope of these orders.

Excluded from these orders is United States Pharmacopoeia (USP) grade methionine. In order to qualify for this exclusion, USP grade methionine must meet or exceed all of the chemical, purity, performance, and labeling requirements of the United States Pharmacopeia and the National Formulary for USP grade methionine.

Methionine is currently classified under subheadings 2930.40.00.00 and 2930.90.46.00 of the Harmonized Tariff Schedule of the United States (HTSUS). Methionine has the Chemical Abstracts Service (CAS) registry numbers 583-91-5, 4857-44-7, 59-51-8 and 922-50-9. While the HTSUS subheadings and CAS registry number are provided for convenience and customs purposes, the written description of the scope of these orders is dispositive.

[FR Doc. 2021-19709 Filed 9-13-21; 8:45 am]

BILLING CODE 3510-DS-P